GENERAL SERVICES ADMINISTRATION

[Notice-CRB-2025-01; Docket No. 2025-0002; Sequence No. 12]

Office of Human Resources Management; Executive Resources (CRB), SES Performance Review Board (PRB) Members

AGENCY: Office of Human Resources Management (OHRM), General Services Administration (GSA).

ACTION: Notice.

SUMMARY: Notice is hereby given for the appointment of new members to the GSA Senior Executive Service Performance Review Board. The Performance Review Board assures consistency, stability, and objectivity in the Executive performance management appraisal process.

DATES: November 2025.

ADDRESSES: 1800 F Street NW, Washington, DC 20405.

FOR FURTHER INFORMATION CONTACT: Mr. Earl Adams, Director, Executive Resources Division, Office of Human Resources Management, GSA, 1800 F Street NW, Washington, DC 20405, or via telephone at (256) 617-4728.

SUPPLEMENTARY INFORMATION: Section 4314(c)(1) through (5) of title 5 U.S.C. requires each agency to establish, in accordance with regulation prescribed by the Office of Personnel Management, one or more SES performance review board(s). The board is responsible for making recommendations to the appointing and awarding authority on the performance appraisal ratings and performance awards for employees in the Senior Executive Service.

The following have been designated as members of the Performance Review Board of GSA:

• Edward (Larry) Allen, Associate Administrator for Government-wide Policy—PRB Chair.

• Arron Helm, Chief Human Capital Officer—PRB Vice Chair.

• Elizabeth DelNegro, Associate Chief Information Officer for Corporate Information Technology (IT) Services.

• Evan Farley, Deputy Chief Financial Officer.

• Gregory Justice, Associate Administrator for Small and Disadvantaged Business Utilization.

• Jeff Lau, Deputy Assistant Commissioner for General Supplies & Services Categories.

• Claudia Nadig, Fiscal and Administrative Law Attorney.

• Crofton Whitfield, Assistant Commissioner for Leasing.

Saul Japson,
Acting Chief of Staff, General Services Administration.

[FR Doc. 2025-20559 Filed 11-20-25; 8:45 am]

BILLING CODE 6820-FM-P